POSTAL REGULATORY COMMISSION

[Docket Nos. K2025-577; MC2025-571 and K2025-569; MC2025-572 and K2025-570; MC2025-573 and K2025-571; MC2025-574 and K2025-572; MC2025-575 and K2025-573; MC2025-576 and K2025-574; MC2025-577 and K2025-575; MC2025-578 and K2025-576; MC2025-579 and K2025-578; MC2025-580 and K2025-579; MC2025-581 and K2025-580; MC2025-582 and K2025-581; MC2025-583 and K2025-582; MC2025-584 and K2025-583; MC2025-585 and K2025-584; MC2025-586 and K2025-585; MC2025-587 and K2025-586; MC2025-588 and K2025-587]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 10, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (https://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: K2025-577; Filing Title: Request of United States Postal Service Concerning Functionally Equivalent Inbound Competitive Multi-Service Agreement with Foreign Postal Operator—FY25-1; Filing Acceptance Date: December 2, 2024; Filing Authority: 39 CFR 3035.105 and 39 CFR 3041.315; Public Representative: Katalin Clendenin; Comments Due: December 10, 2024.

2. Docket No(s).: MC2025-571 and K2025-569; Filing Title: USPS Request to Add Priority Mail Express, Priority Mail & USPS Ground Advantage Contract 858 to the Competitive Product List and Notice of Filing Materials Under Seal; Filing Acceptance Date: December 2, 2024; Filing Authority: 39 U.S.C. 3642, 39 CFR 3035.105, and 39 CFR 3041.310; Public Representative: Katalin Clendenin; Comments Due: December 10, 2024.

3. Docket No(s).: MC2025-572 and K2025-570; Filing Title: USPS Request to Add Priority Mail Express, Priority Mail & USPS Ground Advantage Contract 859 to the Competitive Product List and Notice of Filing Materials Under Seal; Filing Acceptance Date: December 2, 2024; Filing Authority: 39 U.S.C. 3642, 39 CFR 3035.105, and 39 CFR 3041.310; Public Representative: Katalin Clendenin; Comments Due: December 10, 2024.

4. Docket No(s).: MC2025-573 and K2025-571; Filing Title: USPS Request to Add Priority Mail Express, Priority Mail & USPS Ground Advantage Contract 860 to the Competitive Product List and Notice of Filing Materials Under Seal; Filing Acceptance Date: December 2, 2024; Filing Authority: 39 U.S.C. 3642, 39 CFR 3035.105, and 39 CFR 3041.310; Public Representative: Katalin Clendenin; Comments Due: December 10, 2024.

5. Docket No(s).: MC2025-574 and K2025-572; Filing Title: USPS Request to Add Priority Mail & USPS Ground Advantage Contract 493 to the Competitive Product List and Notice of Filing Materials Under Seal; Filing Acceptance Date: December 2, 2024; Filing Authority: 39 U.S.C. 3642, 39 CFR 3035.105, and 39 CFR 3041.310; Public Representative: Elsie Lee-Robbins; Comments Due: December 10, 2024.

6. Docket No(s).: MC2025-575 and K2025-573; Filing Title: USPS Request to Add Priority Mail & USPS Ground Advantage Contract 494 to the Competitive Product List and Notice of Filing Materials Under Seal; Filing Acceptance Date: December 2, 2024; Filing Authority: 39 U.S.C. 3642, 39 CFR 3035.105, and 39 CFR 3041.310; Public Representative: Elsie Lee-Robbins; Comments Due: December 10, 2024.

7. Docket No(s).: MC2025-576 and K2025-574; Filing Title: USPS Request to Add Priority Mail & USPS Ground Advantage Contract 495 to the Competitive Product List and Notice of Filing Materials Under Seal; Filing Acceptance Date: December 2, 2024; Filing Authority: 39 U.S.C. 3642, 39 CFR 3035.105, and 39 CFR 3041.310; Public Representative: Kenneth Moeller; Comments Due: December 10, 2024.

8. Docket No(s).: MC2025-577 and K2025-575; Filing Title: USPS Request to Add Priority Mail & USPS Ground Advantage Contract 496 to the Competitive Product List and Notice of Filing Materials Under Seal; Filing Acceptance Date: December 2, 2024; Filing Authority: 39 U.S.C. 3642, 39 CFR 3035.105, and 39 CFR 3041.310; Public Representative: Elsie Lee-Robbins; Comments Due: December 10, 2024.

9. Docket No(s).: MC2025-578 and K2025-576; Filing Title: USPS Request to Add Priority Mail & USPS Ground Advantage Contract 497 to the Competitive Product List and Notice of Filing Materials Under Seal; Filing Acceptance Date: December 2, 2024; Filing Authority: 39 U.S.C. 3642, 39 CFR 3035.105, and 39 CFR 3041.310; Public Representative: Gregory Stanton; Comments Due: December 10, 2024.

10. Docket No(s).: MC2025-579 and K2025-578; Filing Title: USPS Request to Add Priority Mail Express, Priority Mail & USPS Ground Advantage Contract 861 to the Competitive Product List and Notice of Filing Materials Under Seal; Filing Acceptance Date: December 2, 2024; Filing Authority: 39 U.S.C. 3642, 39 CFR 3035.105, and 39 CFR 3041.310; Public Representative: Christopher Mohr; Comments Due: December 10, 2024.

11. Docket No(s).: MC2025-580 and K2025-579; Filing Title: USPS Request to Add Priority Mail Express, Priority Mail & USPS Ground Advantage Contract 862 to the Competitive Product List and Notice of Filing Materials Under Seal; Filing Acceptance Date: December 2, 2024; Filing Authority: 39 U.S.C. 3642, 39 CFR 3035.105, and 39 CFR 3041.310; Public Representative: Christopher Mohr; Comments Due: December 10, 2024.

12. Docket No(s).: MC2025-581 and K2025-580; Filing Title: USPS Request to Add Priority Mail Express, Priority Mail & USPS Ground Advantage Contract 863 to the Competitive Product List and Notice of Filing Materials Under Seal; Filing Acceptance Date: December 2, 2024; Filing Authority: 39 U.S.C. 3642, 39 CFR 3035.105, and 39 CFR 3041.310; Public Representative: Christopher Mohr; Comments Due: December 10, 2024.

13. Docket No(s).: MC2025-582 and K2025-581; Filing Title: USPS Request to Add Priority Mail Express, Priority Mail & USPS Ground Advantage Contract 864 to the Competitive Product List and Notice of Filing Materials Under Seal; Filing Acceptance Date: December 2, 2024; Filing Authority: 39 U.S.C. 3642, 39 CFR 3035.105, and 39 CFR 3041.310; Public Representative: Gregory Stanton; Comments Due: December 10, 2024.

14. Docket No(s).: MC2025-583 and K2025-582; Filing Title: USPS Request to Add Priority Mail & USPS Ground Advantage Contract 498 to the Competitive Product List and Notice of Filing Materials Under Seal; Filing Acceptance Date: December 2, 2024; Filing Authority: 39 U.S.C. 3642, 39 CFR 3035.105, and 39 CFR 3041.310; Public Representative: Jennaca Upperman; Comments Due: December 10, 2024.

15. Docket No(s).: MC2025-584 and K2025-583; Filing Title: USPS Request to Add Priority Mail Express, Priority Mail & USPS Ground Advantage Contract 865 to the Competitive Product List and Notice of Filing Materials Under Seal; Filing Acceptance Date: December 2, 2024; Filing Authority: 39 U.S.C. 3642, 39 CFR 3035.105, and 39 CFR 3041.310; Public Representative: Jennaca Upperman; Comments Due: December 10, 2024.

16. Docket No(s).: MC2025-585 and K2025-584; Filing Title: USPS Request to Add Priority Mail Express, Priority Mail & USPS Ground Advantage 866 to the Competitive Product List and Notice of Filing Materials Under Seal; Filing Acceptance Date: December 2, 2024; Filing Authority: 39 U.S.C. 3642, 39 CFR 3035.105, and 39 CFR 3041.310; Public Representative: Jana Slovinska; Comments Due: December 10, 2024.

17. Docket No(s).: MC2025-586 and K2025-585; Filing Title: USPS Request to Add Priority Mail & USPS Ground Advantage Contract 499 to the Competitive Product List and Notice of Filing Materials Under Seal; Filing Acceptance Date: December 2, 2024; Filing Authority: 39 U.S.C. 3642, 39 CFR 3035.105, and 39 CFR 3041.310; Public Representative: Jennaca Upperman; Comments Due: December 10, 2024.

18. Docket No(s).: MC2025-587 and K2025-586; Filing Title: USPS Request to Add USPS Ground Advantage Contract 11 to the Competitive Product List and Notice of Filing Materials Under Seal; Filing Acceptance Date: December 2, 2024; Filing Authority: 39 U.S.C. 3642, 39 CFR 3035.105, and 39 CFR 3041.310; Public Representative: Jana Slovinska; Comments Due: December 10, 2024.

19. Docket No(s).: MC2025-588 and K2025-587; Filing Title: USPS Request to Add Priority Mail & USPS Ground Advantage Contract 500 to the Competitive Product List and Notice of Filing Materials Under Seal; Filing Acceptance Date: December 2, 2024; Filing Authority: 39 U.S.C. 3642, 39 CFR 3035.105, and 39 CFR 3041.310; Public Representative: Jennaca Upperman; Comments Due: December 10, 2024.

III. Summary Proceeding(s)

None. See Section II for public proceedings.

This Notice will be published in the Federal Register.

Erica A. Barker,
Secretary.

[FR Doc. 2024-28843 Filed 12-6-24; 8:45 am]

BILLING CODE 7710-FW-P